DEPARTMENT OF HEALTH AND HUMAN SERVICES

Health Resources and Services Administration

Part C Early Intervention Services Grant under the Ryan White HIV/AIDS Program

AGENCY: Health Resources and Services Administration (HRSA), HHS.

ACTION: Notice of a non-competitive one-time replacement award from Ryan White HIV/AIDS Program, Part C funds for the Louisiana State University, Health Sciences Center, Viral Disease Clinic in Shreveport, Department of Medicine, Shreveport, Louisiana.

SUMMARY: HRSA will be giving a non-competitive one-time replacement award to support comprehensive primary care services for persons living with HIV/AIDS, including primary medical care, laboratory testing, oral health care, outpatient mental health and substance abuse treatment, specialty and subspecialty care, referrals for health and support services and adherence monitoring/education services to the Louisiana State University, Health Sciences Center, Viral Disease Clinic to ensure continuity of critical HIV medical care and treatment services, to clients in Shreveport, Louisiana.

SUPPLEMENTARY INFORMATION: Grantee of record: Premier Care and Learning Center, Shreveport, Louisiana.

Intended recipient of the award: Louisiana State University, Health Sciences Center, Shreveport, Louisiana.

Amount of the award: $268,377 to ensure ongoing clinical services to the target population.

Authority: Section 2651 of the Public Health Service Act, 42 U.S.C. 300ff-51.

CFDA Number: 93.918.

Project period: July 1, 2010, to June 30, 2011. The period of support for this non-competitive one-time replacement award is from July 1, 2010, to June 30, 2011.

Justification for the Exception to Competition

Critical funding for HIV medical care and treatment services to clients in Shreveport, Louisiana, will be continued through a non-competitive replacement award to an existing grant award to the Louisiana State University, Health Sciences Center, Viral Disease Clinic. This is a non-competitive one-time replacement award because the previous grant recipient serving this population notified HRSA that it would not continue in the program after the fiscal year (FY) 2010 award was made. Louisiana State University, Health Sciences Center, Viral Disease Clinic is the best qualified grantee for this supplement, since it serves many of the former grantee's patients and is the closest Part C Program to the former grantee. Further funding beyond

June 30, 2011, for this service area will be competitively awarded during the Part C HIV Early Intervention Service competing application process for FY 2011.

FOR FURTHER INFORMATION CONTACT: Kathleen Treat, by e-mail ktreat@hrsa.gov, or by phone, 301-443-7602.

Dated: November 19, 2010.
Mary K. Wakefield,
Administrator.

[FR Doc. 2010-29865 Filed 11-26-10; 8:45 am]

BILLING CODE 4165-15-P